DEPARTMENT OF LABOR

Office of the Secretary

Submission for OMB Review; Comment Request

September 27, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail: King-Darrin@dol.gov.

Comments should be sent to Office of Information and Regulatory Affairs, Attn: Stuart Shapiro, OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Notice of Alleged Safety and Health Hazards, OSHA-7 Form.

OMB Number: 1218-0064.

Affected Public: Individuals or households.

Type of Response: Reporting.

Frequency: On occasion.

Number of Respondents: 55,132.

Number of Annual Responses: 55,132.

Estimated Time Per Response: Varies from 15-25 minutes.

Total Burden Hours: 14,767.

Total Annualized Capital/Startup Costs: $0.

Total Annual Costs (operating/maintaining systems or purchasing services): $882.

Description: The Occupational Safety and Health Act, Section 8(f)(1) and 29 CFR 1903.11(a) and (c) authorizes employees or representative of employees to report an alleged violation of a safety and health standard to OSHA. The OSHA-7 Form is one mechanism for reporting alleged violations. The Form also provides an employer with notice of the complaint. The information is used by OSHA to evaluate the alleged hazards to determine if reasonable grounds exist to conduct an inspection of the workplace.

Ira L. Mills,
Departmental Clearance Officer.

[FR Doc. 01-24829 Filed 10-3-01; 8:45 am]

BILLING CODE 4510-26-M